DEPARTMENT OF TRANSPORTATION

Federal Aviation Administration

14 CFR Part 39

[Docket No. FAA-2017-0339; Product Identifier 2016-NM-078-AD; Amendment 39-19042; AD 2017-19-12]

RIN 2120-AA64

Airworthiness Directives; Airbus Airplanes

AGENCY: Federal Aviation Administration (FAA), Department of Transportation (DOT).

ACTION: Final rule.

SUMMARY: We are superseding Airworthiness Directive (AD) 2014-13-17, which applied to all Airbus Model A300 series airplanes; Airbus Model A300 B4-600, B4-600R, and F4-600R series airplanes, and Model A300 C4-605R Variant F airplanes (collectively called Model A300-600 series airplanes); and Airbus Model A310 series airplanes. AD 2014-13-17 required repetitive functional tests of the circuit breakers for the fuel pump power supply, and replacement of certain circuit breakers. This new AD requires installation of fuel pumps having a new standard, which terminates the repetitive functional tests. This AD was prompted by our determination that installation of a newly developed fuel pump standard will better address the unsafe condition. We are issuing this AD to address the unsafe condition on these products.

DATES: This AD is effective October 24, 2017.

The Director of the Federal Register approved the incorporation by reference of certain publications listed in this AD as of October 24, 2017.

The Director of the Federal Register approved the incorporation by reference of a certain other publication listed in this AD as of August 19, 2014 (79 FR 41098, July 15, 2014).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0339.

Examining the AD Docket

You may examine the AD docket on the Internet at http://www.regulations.gov by searching for and locating Docket No. FAA-2017-0339; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Section, Transport Standards Branch, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2014-13-17, Amendment 39-17893 (79 FR 41098, July 15, 2014) (“AD 2014-13-17”). AD 2014-13-17 applied to all Airbus Model A300 series airplanes; Airbus Model A300-600 series airplanes; and Airbus Model A310 series airplanes. The NPRM published in the Federal Register on May 16, 2017 (82 FR 22445). The NPRM was prompted by reports of failures of the right inner tank fuel pump. The NPRM proposed to require installation of fuel pumps having the new standard. We are issuing this AD to prevent a fuel pump from overheating, which could result in a fuel tank explosion and consequent loss of the airplane.

The European Aviation Safety Agency (EASA), which is the Technical Agent for the Member States of the European Union, has issued EASA Airworthiness Directive 2016-0080, dated April 21, 2016 (referred to after this as the Mandatory Continuing Airworthiness Information, or “the MCAI”), to correct an unsafe condition for all Airbus Model A300 series airplanes; Airbus Model A300-600 series airplanes; and Airbus Model A310 series airplanes. The MCAI states:

Two successive failures have been reported of a Right Hand #1 inner tank fuel pump, Part Number (P/N) 2052Cxx series (where “xx” represents any numerical combination). These occurrences were solved by replacement of the pump, associated circuit breaker (CB) and the alternating current (AC) bus load relay.

Investigations determined that, in case of loss of one phase on the pump supply and the associated CB failing to trip, the fuel pump thermal fuses may not operate as quickly as expected.

This condition, if not detected and corrected, could lead to an overheat condition of the fuel pump in excess of 200 °C, possibly resulting in a fuel tank explosion and loss of the aeroplane.

To address this potential unsafe condition, Airbus issued Alert Operator Transmission (AOT) A28W002-13 providing instructions for functional tests of CBs.

As a temporary measure, EASA issued AD 2013-0163 [which corresponds to FAA AD 2014-13-17] to require repetitive functional tests of the affected fuel pump power supply CBs, and, depending on findings, replacement.

Since that [EASA] AD was issued, a new standard of fuel pump was developed, which improves the thermal protection, thereby preventing the potential unsafe condition and cancelling the need for repetitive functional tests of the affected CBs, as required by EASA AD 2013-0163. Airbus issued Service Bulletin (SB) A300-28-0093, SB A300-28-6111, SB A300-28-9025 and SB A310-28-2176 to provide instructions for this upgrade of the fuel pump for all positions on the aeroplane.

For the reasons described above, this [EASA] AD retains the requirements EASA AD 2013-0163, which is superseded, and requires installation of the new standard fuel pump, which constitutes terminating action for the repetitive functional tests.

You may examine the MCAI in the AD docket on the Internet at http://www.regulations.gov by searching for and locating Docket No. FAA-2017-0339.

Comments

We gave the public the opportunity to participate in developing this AD. The following presents the comments received on the NPRM and the FAA's response to each comment.

Support for the NPRM

FedEx Express stated that it concurs with the proposed corrective actions.

Suggestion To Organize Files by Airplane Serial Number

One commenter, Anani Fleur, suggested that the FAA set up files for every airplane by serial number. The commenter stated that the file system should be computerized and that FAA employees could do this.

We acknowledge the commenter's suggestion. Since it does not address the unsafe condition identified in this AD, we have not changed this AD regarding this issue.

Conclusion

We reviewed the available data, including the comments received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information, which describes procedures for installing new standard fuel pumps with improved thermal protection. These documents are distinct since they apply to different airplane models in different configurations.

• Service Bulletin A300-28-0093, dated December 15, 2015.

• Service Bulletin A300-28-6111, Revision 01, dated February 29, 2016.

• Service Bulletin A310-28-2176, dated December 15, 2015.

This service information is reasonably available because the interested parties have access to it through their normal course of business or by the means identified in the ADDRESSES section.

Costs of Compliance

We estimate that this AD affects 128 airplanes of U.S. registry.

The actions required by AD 2014-13-17 and retained in this AD take about 1 work-hour per product, at an average labor rate of $85 per work-hour. Based on these figures, the estimated cost of the actions that are required by AD 2014-13-17 is $85 per product, per inspection cycle.

We also estimate that it will take up to 21 work-hours per product to comply with the basic requirements of this AD. The average labor rate is $85 per work-hour. Required parts cost per product is not available. Based on these figures, we estimate the cost of this AD on U.S. operators to be up to $228,480, or up to $1,785 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-13-17, Amendment 39-17893 (79 FR 41098, July 15, 2014), and adding the following new AD:

2017-19-12 Airbus: Amendment 39-19042; Docket No. FAA-2017-0339; Product Identifier 2016-NM-078-AD.

(a) Effective Date

This AD is effective October 24, 2017.

(b) Affected ADs

This AD replaces 2014-13-17, Amendment 39-17893 (79 FR 41098, July 15, 2014) (“AD 2014-13-17”).

(c) Applicability

This AD applies to the Airbus airplanes, certificated in any category, identified in paragraphs (c)(1) through (c)(6) of this AD, all manufacturer serial numbers.

(1) Airbus Model A300 B2-1A, B2-1C, B2K-3C, B2-203, B4-2C, B4-103, and B4-203 airplanes.

(2) Airbus Model A300 B4-601, B4-603, B4-620, and B4-622 airplanes.

(3) Airbus Model A300 B4-605R and B4-622R airplanes.

(4) Airbus Model A300 C4-605R Variant F airplanes.

(5) Airbus Model A300 F4-605R and F4-622R airplanes.

(6) Airbus Model A310-203, -204, -221, -222, -304, -322, -324, and -325 airplanes.

(d) Subject

Air Transport Association (ATA) of America Code 28, Fuel.

(e) Reason

This AD was prompted by reports of failures of the right inner tank fuel pump. We are issuing this AD to prevent a fuel pump from overheating, which could result in a fuel tank explosion and consequent loss of the airplane.

(f) Compliance

Comply with this AD within the compliance times specified, unless already done.

(g) Retained: Repetitive Functional Tests of Circuit Breakers, With New Terminating Action

This paragraph restates the requirements of paragraph (g) of AD 2014-13-17, with a new terminating action.

(1) Within 6 months or 500 flight hours after August 19, 2014 (the effective date of AD 2014-13-17), whichever occurs first: Do a functional test of the circuit breakers for the fuel pump power supply, as identified in paragraphs (g)(1)(i), (g)(1)(ii), and (g)(1)(iii) of this AD, as applicable, in accordance with Airbus Alert Operators Transmission A28W002-13, dated July 23, 2013. Repeat the functional test thereafter at intervals not to exceed 6 months or 500 flight hours, whichever occurs first, until the fuel pump installation required by paragraph (h) of this AD is accomplished.

(i) For Airbus Model A300 B2-1A, B2-1C, B2K-3C, and B2-203 airplanes: Inner and outer pump, No. 1 and No. 2, left-hand (LH) side and right-hand (RH) side.

(ii) For Airbus Model A300 B4-2C, B4-103, B4-203, B4-601, B4-603, B4-620, and B4-622 airplanes; and Model A310-203, -204, -221, and -222 airplanes:

(A) Inner and outer pump, No. 1 and No. 2, LH and RH; and

(B) Center pump, LH and RH.

(iii) For Airbus Model A300 B4-605R, B4-622R, F4-605R, F4-622R, and C4-605R Variant F airplanes; and Model A310-304, -322, -324, and -325 airplanes:

(A) Inner and outer pump, No. 1 and No. 2, LH and RH;

(B) Center pump, LH and RH; and

(C) Trim tank pump No. 1 and No. 2.

(2) If, during any functional test required by paragraph (g)(1) of this AD, any circuit breaker fails any functional test, or any circuit breaker is found to be stuck closed, before further flight, replace the affected circuit breaker with a serviceable part, in accordance with Airbus Alert Operators Transmission A28W002-13, dated July 23, 2013.

(3) The replacement of one or more circuit breakers as required by paragraph (g)(2) of this AD does not terminate the repetitive functional tests required by paragraph (g)(1) of this AD.

(h) New Requirement of This AD: Installation of Fuel Pumps Having a New Standard

Within 72 months after the effective date of this AD: Install a fuel pump having a new standard at each applicable location on the airplane, in accordance with the Accomplishment Instructions of the applicable service information specified in paragraph (h)(1), (h)(2), or (h)(3) of this AD. Accomplishment of the installation of fuel pumps having the new standard terminates the requirement for the repetitive functional tests required by paragraph (g)(1) of this AD.

(1) Airbus Service Bulletin A300-28-0093, dated December 15, 2015.

(2) Airbus Service Bulletin A300-28-6111, Revision 01, dated February 29, 2016.

(3) Airbus Service Bulletin A310-28-2176, dated December 15, 2015.

(i) Parts Installation Prohibition

After the installation of any fuel pump having a new standard on an airplane, as required by paragraph (h) of this AD, no person may install any fuel pump having part number 2052Cxx (where “xx” represents any numerical combination) on that airplane.

(j) Credit for Previous Actions

This paragraph provides credit for the installation required by paragraph (h) of this AD, if the installation was done before the effective date of this AD using Airbus Service Bulletin A300-28-6111, dated December 15, 2015.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): If any Airbus service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2016-0080, dated April 21, 2016, for related information. This MCAI may be found in the AD docket on the Internet at http://www.regulations.gov by searching for and locating Docket No. FAA-2017-0339.

(2) For more information about this AD, contact Dan Rodina, Aerospace Engineer, International Section, Transport Standards Branch, FAA, 1601 Lind Avenue SW., Renton, WA 98057-3356; telephone 425-227-2125; fax 425-227-1149.

(3) Service information identified in this AD that is not incorporated by reference is available at the addresses specified in paragraphs (m)(5) and (m)(6) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 24, 2017.

(i) Airbus Service Bulletin A300-28-0093, dated December 15, 2015.

(ii) Airbus Service Bulletin A300-28-6111, Revision 01, dated February 29, 2016.

(iii) Airbus Service Bulletin A310-28-2176, dated December 15, 2015.

(4) The following service information was approved for IBR on August 19, 2014 (79 FR 41098, July 15, 2014).

(i) Airbus Alert Operators Transmission A28W002-13, dated July 23, 2013.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on September 7, 2017.
Jeffrey E. Duven,
Director, System Oversight Division, Aircraft Certification Service.

[FR Doc. 2017-19653 Filed 9-18-17; 8:45 am]

BILLING CODE 4910-13-P